DEPARTMENT OF ENERGY

Federal Energy Regulatory Commission

[Project No. 11566-000]

Ridgewood Main Hydro Partners, L.P.; Notice Modifying a Restricted Service List for Comments on a Programmatic Agreement for Managing Properties Included in or Eligible for Inclusion in the National Register of Historic Places

July 10, 2002.

On October 18, 2001, the Federal Energy Regulatory Commission (Commission) issued a notice for the Damariscotta Mills Hydroelectric Project (FERC No. 11566-000) proposing to establish a restricted service list for the purpose of developing and executing a Programmatic Agreement for managing properties included in or eligible for inclusion in the National Register of Historic Places. On February 7, 2002, the Commission issued a notice modifying the restricted service list in order to include representatives of the Towns of Nobleboro, Jefferson, and Newcastle, and Land & Water Associates. The Damariscotta Mills Hydroelectric Project is located on the Damariscotta River, in Lincoln County, Maine. Ridgewood Maine Hydro Partners, L.P. is the licensee.

Rule 2010 of the Commission's Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

As a result of Commission notice issued July 1, 2002, the following two additions are made to the restricted service list notice issued on October 18, 2001, for Project No. 11566-000:

Jim Kardatzke, Bureau of Indian Affairs, ERO, 711 Stewards Ferry Pike, Nashville, TN 37214.

Franklin Keel, Director, Bureau of Indian Affairs, ERO, 711 Stewards Ferry Pike, Nashville, TN 37214.

In addition to the Bureau of Indian Affairs, the current restricted service list for the Damariscotta Hydroelectric Project is as follows:

Dr. Laura Henley Dean, Advisory Council on Historic Preservation, The Old Post Office Building, Suite 803, 1100 Pennsylvania Avenue, NW., Washington, DC 20004.

Earle G. Shettleworth, Jr., SHPO, Maine Historic Preservation Commission, 55 Capitol Street, State House Station 65, Augusta, ME 04330.

Dr. Arthur E. Spiess, Maine Historic Preservation Commission, 55 Capitol Street, State House Station 65, Augusta, ME 04330.

Kevin Webb, CHI Energy, Inc., 200 Bulfinch Drive, Andover, MA 01810.

Dale Wright, Chair, Town of Nobleboro, 192 US Highway 1, Nobleboro, ME 04555.

Philip Wright, Chair, Town of Newcastle, P.O. Box 368, Newcastle, ME 04553.

Jonathan C. Hull, Esq., P.O. Box 880, Damariscotta, ME 04543.

Rosa Sinclair, Chair, Town of Jefferson, 58 Washington Road, Jefferson, ME 04348.

Kevin Mendik, National Park Service, 15 State Street, Boston, MA 02109.

Alec Giffen, Land & Water Associates, 9 Union Street, Hallowell, ME 04347.

Linwood A. Watson, Jr.,
Deputy Secretary.

[FR Doc. 02-17811 Filed 7-15-02; 8:45 am]

BILLING CODE 6717-01-P